DEPARTMENT OF AGRICULTURE

Grain Inspection, Packers and Stockyards Administration

[05-01-S]

Designation for Aberdeen (SD), Decatur (IL), Hastings (NE), Clinton (IA), Missouri, South Carolina, and Wisconsin Areas, and Amendment to the Eastern Iowa (IA) Area

AGENCY: Grain Inspection, Packers and Stockyards Administration, USDA.

ACTION: Notice.

SUMMARY: Grain Inspection, Packers and Stockyards Administration (GIPSA) announces designation of the following organizations to provide official services under the United States Grain Standards Act, as amended (Act): Aberdeen Grain Inspection, Inc. (Aberdeen); Decatur Grain Inspection, Inc. (Decatur); Hastings Grain Inspection, Inc. (Hastings); John R. McCrea Agency, Inc. (McCrea); Missouri Department of Agriculture (Missouri); South Carolina Department of Agriculture (South Carolina); and Eastern Iowa Grain Inspection and Weighing Service, Inc. (Eastern Iowa). The designation of Eastern Iowa has been amended to include the area formerly designated to Wisconsin Department of Agriculture, Trade and Consumer Protection, excluding the export locations delegated to Wisconsin.

EFFECTIVE DATE: October 1, 2005.

ADDRESSES: USDA, GIPSA, Janet M. Hart, Chief, Review Branch, Compliance Division, STOP 3604, Room 1647-S, 1400 Independence Avenue, SW., Washington, DC 20250-3604.

FOR FURTHER INFORMATION CONTACT: Janet M. Hart at (202) 720-8525, e-mail Janet.M.Hart@usda.gov.

SUPPLEMENTARY INFORMATION: This action has been reviewed and determined not to be a rule or regulation as defined in Executive Order 12866 and Departmental Regulation 1512-1; therefore, the Executive Order and Departmental Regulation do not apply to this action.

In the March 1, 2005 Federal Register (70 FR 9911), GIPSA asked persons interested in providing official services in the geographic areas assigned to the official agencies named above to submit an application for designation. Applications were due by April 1, 2005.

Aberdeen, Decatur, Hastings, McCrea, Missouri, and South Carolina, were the sole applicants for designation to provide official services in the entire area currently assigned to them, so GIPSA did not ask for additional comments on them.

There were two applicants for the Wisconsin area: Wisconsin Department of Agriculture, Trade and Consumer Protection (Wisconsin) and Eastern Iowa. Wisconsin applied for designation to provide official services in the entire state of Wisconsin which was currently assigned to them. Eastern Iowa also applied for designation in all or part of the area currently assigned to Wisconsin.

GIPSA asked for comments on the applicants for providing service in the Wisconsin area in the June 1, 2005, Federal Register (70 FR 31417). Comments were due by July 1, 2005. GIPSA received one favorable comment supporting Eastern Iowa from a customer in Wisconsin. Wisconsin subsequently withdrew their application for designation.

GIPSA evaluated all available information regarding the designation criteria in Section 7(f)(l)(A) of the Act and, according to Section 7(f)(l)(B), determined that Aberdeen, Decatur, Eastern Iowa, Hastings, McCrea, Missouri, and South Carolina, are able to provide official services in the geographic areas specified in the March 1, 2005, Federal Register, for which they applied. These designation actions to provide official inspection services are effective October 1, 2005, and terminate September 30, 2008, for Aberdeen, Decatur, Hastings, McCrea, Missouri and South Carolina. For Eastern Iowa, the designation term is concurrent with their present designation, which began April 1, 2004, and terminates March 31, 2007. Interested persons may obtain official services by calling the telephone numbers listed below.

Official agency | Headquarters location and telephone | Designation term
Aberdeen | Aberdeen, SD; (605) 225-8432; Additional location: Mitchell, SD | 10/1/2005-9/30/2008
Decatur | Decatur, IL; (217) 429-2466 | 10/1/2005-9/30/2008
Eastern Iowa | Davenport, IA; (563) 322-7149; Additional locations: Dubuque and Muscatine, IA, Gulfport, IL, Beloit, WI | 4/1/2004-3/31/2007
Hastings | Hastings, NE; (402) 462-4254; Additional location: Grand Island, NE | 10/1/2005-9/30/2008
McCrea | Clinton, IA; (563) 242-2073 | 10/1/2005-9/30/2008
Missouri | Jefferson City, MO; (573) 751-5515; Additional locations: Kansas City, Laddonia, Marshall, New Madrid, and St. Joseph, MO | 10/1/2005-9/30/2008
South Carolina | Columbia, SC; (843) 296-7522 | 10/1/2005-9/30/2008

Authority: Pub. L. 94-582, 90 Stat. 2867, as amended (7 U.S.C. 71 et seq.).

David R. Shipman,
Acting Administrator, Grain Inspection, Packers and Stockyards Administration.

[FR Doc. 05-17270 Filed 8-31-05; 8:45 am]

BILLING CODE 3410-EN-P